DEPARTMENT OF INTERIOR

Fish and Wildlife Service

[FWS-R3-FHC-2013-N266; FXFR13340300000-145-FF03F00000]

Fisheries and Habitat Conservation; Draft Environmental Impact Statement for the Ballville Dam Project on the Sandusky River, Sandusky County, Ohio

AGENCY: Fish and Wildlife Service, Interior.

ACTION: Notice of availability; announcement of meeting; request for comments.

SUMMARY: We, the U.S. Fish and Wildlife Service (Service), announce the availability of a draft environmental impact statement (DEIS) that has been prepared to evaluate the Ballville Dam Project, in Sandusky County, Ohio, in accordance with the requirements of the National Environmental Policy Act (NEPA). We are also announcing a public meeting and requesting public comments.

DATES: The comment period begins with publication of this notice in the Federal Register and will continue through March 28, 2014. The Service will consider all comments regarding the DEIS received or postmarked by this date and respond to them as appropriate. The Service will conduct a public meeting in Fremont, Ohio, on February 19, 2014 from 7 to 9 p.m. The meeting will provide the public with an opportunity to present comments, ask questions, and discuss issues with Service staff and our cooperating agencies regarding the DEIS.

ADDRESSES: The meeting will take place at Terra State Community College, 2830 Napoleon Road, Fremont, OH 43420. A hard copy of the DEIS and associated documents will be available for review at the Birchard Public Library, 423 Croghan Street, Fremont, Ohio 43420, as well as online at http://www.fws.gov/midwest/fisheries/ballville-dam.html.

You may submit comments by any one of the following methods:

• U.S. mail or hand-delivery: Brian Elkington, U.S. Fish and Wildlife Service, Fisheries, 5600 American Boulevard West, Suite 990, Bloomington, MN 55437-1458.

• Email: Ballvilledam@fws.gov.

• Fax: (612) 713-5289 (Attention: Brian Elkington).

FOR FURTHER INFORMATION CONTACT: Brian Elkington, (612) 713-5168. Individuals who are hearing impaired or speech impaired may call the Federal Relay Service at (800) 877-8337 for TTY assistance.

SUPPLEMENTARY INFORMATION: We publish this notice in compliance with the National Environmental Policy Act (NEPA) of 1969, as amended (42 U.S.C. 4321 et seq.), and its implementing regulations (40 CFR 1506.6). The Service, in conjunction with our cooperating agencies prepared this DEIS for the Ballville Dam Project with the intent to address the environmental, economic, cultural and historical, and safety issues associated with the proposed removal of the dam and a suite of alternatives.

Ballville Dam is currently a complete barrier to upstream fish passage and impedes hydrologic processes. The purpose for the issuance of federal funds and preparation of this Draft EIS are to restore natural hydrological processes over a 40-mile stretch of the Sandusky River, re-open fish passage to 22 miles of new habitat, restore flow conditions for fish access to new habitat above the impoundment, and improve overall conditions for native fish communities in the Sandusky River system both upstream and downstream of the Ballville Dam, restoring self-sustaining fish resources.

Letters describing the proposed action and soliciting comments will be sent to appropriate Federal, State, and local agencies, and to private organizations and citizens who have previously expressed or are known to have interest in this proposal. To ensure that the full range of issues related to this proposed action are addressed and all significant issues identified, comments and suggestions are invited from all interested parties.

Alternatives in the DEIS

The DEIS contains an analysis of four alternatives: (1) Proposed Action—Incremental Dam Removal with Ice Control Structure; (2) No Federal Action; (3) Fish Elevator Structure; and (4) Dam Removal with Ice Control Structure. The DEIS considers the direct, indirect, and cumulative effects of the alternatives, including any measures under the Proposed Action alternative intended to minimize and mitigate such impacts. The DEIS also identifies additional alternatives that were considered but were eliminated from consideration as detailed in Section 2.3 of the DEIS.

Public Comments

The Service requests data, comments, new information, or suggestions from the public, concerned governmental agencies, the scientific community, tribes, industry, or any other interested party on this notice.

In particular, information and comments regarding the following topics are requested:

1. The direct, indirect, or cumulative effects that implementation of any alternative could have on the human environment;

2. Whether or not the significance of the impact on various aspects of the human environment has been adequately analyzed; and

3. Any other information pertinent to evaluating the effects of the proposed action on the human environment.

You may submit your comments and materials considering this notice by one of the methods listed in the ADDRESSES section.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Background

Ballville Dam was built in 1913 for hydroelectric power generation. The City of Fremont purchased the dam in 1959 from the Ohio Power Company for the purpose of supplying raw water to the city. With the construction of a raw water reservoir, the dam is no longer required for this purpose. In 2007, the ODNR issued a Notice of Violation (NOV) to the City, stating that the dam was being operated in violation of the law as a result of its deteriorated condition.

Ballville Dam is currently a complete barrier to upstream fish passage and impedes hydrologic processes. An improved river flow regime with open access to substantially more habitat should increase the abundance of virtually all species, and likely species diversity as well, when compared to present conditions both above and below Ballville Dam.

Authority

This notice is being furnished as provided for by NEPA and its implementing Regulations (40 CFR 1501.7 and 1508.22). The intent of the notice is to obtain suggestions and additional information from other agencies and the public on the DEIS. Comments and participation in this process are solicited.

Todd Turner,
Assistant Regional Director, Fisheries, Midwest Region.

[FR Doc. 2014-01524 Filed 1-24-14; 8:45 am]

BILLING CODE P